DEPARTMENT OF THE INTERIOR

National Park Service

[N6794; NPS-WASO-NAGPRA-NPS0041565; PPWOCRADN0-PCU00RP14.R50000]

Notice of Inventory Completion: University of Oregon Museum of Natural and Cultural History, Eugene, OR

AGENCY: National Park Service, Interior.

ACTION: Notice.

SUMMARY: In accordance with the Native American Graves Protection and Repatriation Act (NAGPRA), the University of Oregon Museum of Natural and Cultural History has completed an inventory of human remains and associated funerary objects and has determined that there is a cultural affiliation between the human remains and associated funerary objects and the Indian Tribes or Native Hawaiian organizations in this notice.

DATES: Repatriation of the human remains and associated funerary objects in this notice may occur on or after January 20, 2026.

ADDRESSES: Send written requests for repatriation of the human remains and associated funerary objects in this notice to Pamela Endzweig, University of Oregon Museum of Natural and Cultural History, 1224 University of Oregon, Eugene, OR 97403-1224, email endzweig@uoregon.edu.

SUPPLEMENTARY INFORMATION: This notice is published as part of the National Park Service's administrative responsibilities under NAGPRA. The determinations in this notice are the sole responsibility of the University of Oregon Museum of Natural and Cultural History, and additional information on the determinations in this notice, including the results of consultation, can be found in its inventory or related records. The National Park Service is not responsible for the determinations in this notice.

Abstract of Information Available

Human remains representing, at least, 16 individuals have been identified. Skeletal analyses indicate that the generally fragmentary remains include seven adult males, three adult females, one young adult female, two adults of indeterminate sex, one adolescent female, one child, and one infant. No known individuals were identified. The 23 associated funerary objects include 18 pine nut beads, and five worked antler artifacts. An additional stone projectile point tip is embedded in the sternum of one individual. Although more burial-associated objects were collected by the donor, only part of his collection was donated to the Museum.

The human remains and artifacts were removed in the early 1940s by W.T. Edmundson and William Laughlin from Khustenate, also known as 35CU157, an Athabaskan village and burial site in Curry County, OR, formerly on private land and now within current Samuel H. Boardman State Park. They were donated by Edmundsen, a private individual, and accessioned in 1947. Laughlin was that time a professor at the University of Oregon. Upon leaving the University in 1955, Laughlin removed some Khustenate remains to subsequent institutions he was employed at, resulting in the dispersal of the collection.

The village at Khustenate was reported in 1874 by Paul Schumacher, who observed housepits, a cemetery, and an extensive midden. Subsequent radiocarbon dating of shell samples from the reposited midden yielded dates of 450±70 RYBP and 320±60 RYBP. The assemblage and presence of Euroamerican trade items confirms that the site was used in Late Prehistoric and Early Historic times. Historical Documents, ethnographic sources, oral history, and Native American traditional knowledge indicate that the Tututni people have occupied this area of the southern Oregon coast since pre-contact times.

Cultural Affiliation

Based on the information available and the results of consultation, cultural affiliation is reasonably identified by the geographical location or acquisition history of the human remains and associated funerary objects described in this notice.

Determinations

The University of Oregon Museum of Natural and Cultural History has determined that:

• The human remains described in this notice represent the physical remains of at least 16 individuals of Native American ancestry.

• The 23 objects described in this notice are reasonably believed to have been placed with or near individual human remains at the time of death or later as part of the death rite or ceremony.

• There is a connection between the human remains and funerary objects described in this notice and the Confederated Tribes of Siletz Indians of Oregon; Confederated Tribes of the Grande Ronde Community of Oregon; Coquille Indian Tribe; Elk Valley Rancheria, California; and the Tolowa Dee-ni' Nation.

Requests for Repatriation

Written requests for repatriation of the human remains and funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains and funerary objects described in this notice to a requestor may occur on or after January 20, 2026. If competing requests for repatriation are received, the University of Oregon Museum of Natural and Cultural History must determine the most appropriate requestor prior to repatriation. Requests for joint repatriation of the human remains and funerary objects are considered a single request and not competing requests. The University of Oregon Museum of Natural and Cultural History is responsible for sending a copy of this notice to the Indian Tribes and Native Hawaiian organizations identified in this notice and any other consulting parties.

Authority: Native American Graves Protection and Repatriation Act, 25 U.S.C. 3003, and the implementing regulations, 43 CFR 10.10.

Dated: December 8, 2025.
Melanie O'Brien,
Manager, National NAGPRA Program.

[FR Doc. 2025-23373 Filed 12-18-25; 8:45 am]

BILLING CODE 4312-52-P